DEPARTMENT OF ENERGY

10 CFR Part 429

[Docket No. EERE-2013-BT-NOC-0039]

Appliance Standards and Rulemaking Federal Advisory Committee: Cancellation of Open Meetings

AGENCY: Office of Energy Efficiency and Renewable Energy, Department of Energy.

ACTION: Notice of cancellation of open meetings.

SUMMARY: The Department of Energy (DOE) announces the cancellation of open meetings for the Commercial and Industrial Pumps Working Group of the Appliance Standards and Rulemaking Federal Advisory Committee (ASRAC) scheduled for July 23 through July 25, 2014.

DATES: The open meetings scheduled for July 23, July 24, and July 25, 2014 are cancelled.

FOR FURTHER INFORMATION CONTACT: John Cymbalsky, ASRAC Designated Federal Officer, U.S. Department of Energy (DOE), Office of Energy Efficiency and Renewable Energy, 950 L'Enfant Plaza SW., Washington, DC, 20024, (202) 287-1692. Email: asrac@ee.doe.gov.

SUPPLEMENTARY INFORMATION: DOE published a notice of open meetings for the Commercial and Industrial Pumps Working Group of the ASRAC to be held in June and July of 2014 (79 FR 2383, Jan. 14, 2014) and a second notice adding an extra day to both series of meetings (79 FR 29692, May 23, 2014). Since that time, the working group has concluded its activities and determined the second series of meetings, scheduled for July 23 through July 25, is no longer necessary. Through this notice, DOE announces cancellation of those meetings.

Issued in Washington, DC, on June 27, 2014.
Kathleen B. Hogan,
Deputy Assistant Secretary for Energy Efficiency, Energy Efficiency and Renewable Energy.

[FR Doc. 2014-15646 Filed 7-2-14; 8:45 am]

BILLING CODE 6450-01-P